DEPARTMENT OF TRANSPORTATION

Federal Aviation Administration

Agency Information Collection Activities: Requests for Comments; Clearance of Renewed Approval of Information Collection(s): Criteria for Internet Communications of Aviation Weather, NOTAM, and Aeronautical Data

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on September 23, 2010, vol. 75, no. 184, page 58015. An Advisory Circular (AC) establishes criteria for Qualified Internet Communications Providers (ICP), who provide access to aviation weather, Notices to Airmen (NOTAM), and aeronautical data via the Public Internet. The information collected is used to determine the provider's eligibility.

DATES: Written comments should be submitted by January 27, 2011.

FOR FURTHER INFORMATION CONTACT: Carla Scott on (202) 267-9895, or by e-mail at: Carla.Scott@faa.gov.

SUPPLEMENTARY INFORMATION: OMB Control Number: 2120-0672.

Title: Criteria for Internet Communications of Aviation Weather, NOTAM, and Aeronautical Data.

Form Numbers: There are no FAA forms associated with this collection of information.

Type of Review: Renewal of an information collection.

Background: Any interested person or organization desiring to become a QICP shall provide the FAA Aviation Weather and Policy Requirements, AJP-B1 with a written application documenting their capability to meet the QICP criteria. The purpose of the information is to ensure the reliability, accessibility and security of aviation weather data, NOTAM and aeronautical data accessed via the Internet as well as to encourage data providers to identify the approval status (e.g., experimental or operational) of aviation weather products.

Respondents: Approximately 6 applicants.

Frequency: Information is collected on occasion.

Estimated Average Burden per Response: 40 hours.

Estimated Total Annual Burden: 2,740 hours.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street, NW., Washington, DC 20503.

Public Comments Invited: You are asked to comment on any aspect of this information collection, including: (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on December 20, 2010.
Carla Scott,
FAA Information Collection Clearance Officer, IT Enterprises Business Services Division, AES-200.

[FR Doc. 2010-32582 Filed 12-27-10; 8:45 am]

BILLING CODE 4910-13-P